DEPARTMENT OF THE INTERIOR

Bureau of Land Management

[LLNVS01000.L58530000.EQ0000.241A; N-95402; 12-08807; MO#4500118043; TAS:15X5232]

Notice of Realty Action: Classification for Lease and/or Conveyance for Recreation and Public Purposes of Public Lands (N-95402) for a School in the Southwest Portion of the Las Vegas Valley, Clark County, NV

AGENCY: Bureau of Land Management, Department of Interior.

ACTION: Notice of realty action.

SUMMARY: The Bureau of Land Management (BLM), Las Vegas Field Office, has examined and found suitable for classification for lease and subsequent conveyance under the provisions of the Recreation and Public Purposes Act (R&PP), as amended, approximately 15 acres of public land in the Las Vegas Valley, Clark County, Nevada. The Clark County School District proposes to use the land for an elementary school that will help meet future educational needs in the southwestern part of the Las Vegas Valley.

DATES: Interested parties may submit written comments regarding the proposed classification for lease and conveyance of the land until September 13, 2018.

ADDRESSES: Mail written comments to the BLM Las Vegas Field Office, 4701 North Torrey Pines Drive, Las Vegas, Nevada 89130, fax to 775-515-5010, Attn: Vivian Browning, or email to vbrowning@blm.gov.

FOR FURTHER INFORMATION CONTACT: Vivian Browning at the above address, telephone: 702-515-5013, email: vbrowning@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The parcel is located south of Mountains Edge Parkway off El Capitan Way in southwest Las Vegas and is legally described as:

Mount Diablo Meridian, Nevada

T. 22 S., R. 60 E.,

Sec. 29, SW¼NW¼SE¼, W½SE¼NW¼SE¼.

The area described contains 15 acres in Clark County, Nevada.

The Clark County School District has filed an R&PP application to develop the above-described land as an elementary school. The project will consist of five school buildings, parking for school staff, public parking, busing routes with student pick-up and drop-off points, kindergarten classrooms with a fenced-off play area, areas for basketball courts, ball fields, bike racks, shaded rest areas, a botanical learning area, a turf play area, playgrounds, a tetherball court area, and utilities. Additional detailed information pertaining to this publication, plan of development, and site plan is available for review at the BLM Las Vegas Field Office at the above address.

The Clark County School District is a political subdivision of the State of Nevada, and is, therefore, a qualified applicant under the R&PP Act.

Subject to limitations prescribed by law and regulation, prior to patent issuance, the holder of any right-of-way grant within the lease area may be given the opportunity to amend the right-of-way grant for conversion to a new term, including perpetuity, if applicable.

The land identified is not needed for any Federal purpose. The lease and/or conveyance is consistent with the BLM Las Vegas Resource Management Plan dated October 5, 1998, and would be in the public interest. The Clark County School District has not applied for more than the 640-acre limitation for public purpose uses in a year and has submitted a statement in compliance with the regulations at 43 CFR 2741.4(b).

The lease and conveyance, when issued, will be subject to the provisions of the R&PP Act and applicable regulations of the Secretary of the Interior, and will contain the following reservations to the United States:

1. A right-of-way thereon for ditches or canals constructed by the authority of the United States, Act of August 30, 1890 (43 U.S.C. 945);

2. All minerals shall be reserved to the United States, together with the right to prospect for, mine, and remove such deposits for the same under applicable law and such regulations as the Secretary of the Interior may prescribe; and

3. The parcel is subject to valid existing rights.

Any lease and conveyance will also contain any terms or conditions required by law (including, but not limited to, any terms or conditions required by 43 CFR 2741.4), and will contain an appropriate indemnification clause protecting the United States from claims arising out of the lessee's/patentee's use, occupancy, or operations on the leased/patented lands. It will also contain any other terms and conditions deemed necessary and appropriate by the Authorized Officer.

Upon publication of this notice in the Federal Register, the land described above will be segregated from all other forms of appropriation under the public land laws, including the general mining laws, except for lease and conveyance under the R&PP Act, leasing under the mineral leasing laws, and disposals under the mineral material disposal laws.

Interested parties may submit written comments on the suitability for classification of the land as a school project in the City of Las Vegas. Comments on the classification are restricted to whether the land is physically suited for the proposal, whether the use will maximize the future use or uses of the land, whether the use is consistent with local planning and zoning, or if the use is consistent with state and Federal programs. Interested parties may also submit written comments regarding the specific use proposed in the application and plan of development, and whether the BLM followed proper administrative procedures in reaching the decision to lease and convey under the R&PP Act.

Before including your address, phone number, emails address, or other personal identifying information in your comment, you should be aware that your entire comment—including your personal identifying information—may be made publicly available at any time. While you can ask us in your comment to withhold your personal identifying information from public review, we cannot guarantee that we will be able to do so. Only written comments submitted to the Field Manager, BLM Las Vegas Field Office, will be considered properly filed. Any adverse comments will be reviewed as protests, by the BLM Nevada State Director, who may sustain, vacate, or modify this realty action.

In the absence of any adverse comments, the decision will become effective on September 13, 2018. The lands will not be available for lease and conveyance until after the decision becomes effective.

Authority: 43 CFR 2741.5.

Vanessa L. Hice,
Assistant Field Manager, Division of Lands, Las Vegas Field Office.

[FR Doc. 2018-16228 Filed 7-27-18; 8:45 am]

BILLING CODE 4310-HC-P